DEPARTMENT OF COMMERCE

Foreign-Trade Zones Board

[S-03-2019]

Foreign-Trade Zone 50—Long Beach, California; Application for Subzone; Fender Musical Instruments Corporation, San Bernardino and Corona, California

An application has been submitted to the Foreign-Trade Zones (FTZ) Board by the Board of Harbor Commissioners of the Port of Long Beach, grantee of FTZ 50, requesting subzone status for the facilities of Fender Musical Instruments Corporation (Fender), located in San Bernardino and Corona, California. The application was submitted pursuant to the provisions of the Foreign-Trade Zones Act, as amended (19 U.S.C. 81a-81u), and the regulations of the FTZ Board (15 CFR part 400). It was formally docketed on January 31, 2019.

The proposed subzone would consist of the following sites: Site 1 (15.28 acres) 1295 East Central Avenue, San Bernardino; and, Site 2 (9.12 acres) 301 and 311 Cessna Circle, Corona. The applicant has indicated that a notification of proposed production activity will be submitted which will be published separately for public comment. The proposed subzone would be subject to the existing activation limit of FTZ 50.

In accordance with the FTZ Board's regulations, Christopher J. Kemp of the FTZ Staff is designated examiner to review the application and make recommendations to the Executive Secretary.

Public comment is invited from interested parties. Submissions shall be addressed to the FTZ Board's Executive Secretary at the address below. The closing period for their receipt is March 18, 2019. Rebuttal comments in response to material submitted during the foregoing period may be submitted during the subsequent 15-day period to April 2, 2019.

A copy of the application will be available for public inspection at the Office of the Executive Secretary, Foreign-Trade Zones Board, Room 21013, U.S. Department of Commerce, 1401 Constitution Avenue NW, Washington, DC 20230-0002, and in the “Reading Room” section of the FTZ Board's website, which is accessible via www.trade.gov/ftz.

For further information, contact Christopher J. Kemp at Christopher.Kemp@trade.gov or (202) 482-0862.

Dated: January 31, 2019.
Andrew McGilvray,
Executive Secretary.

[FR Doc. 2019-01280 Filed 2-5-19; 8:45 am]

BILLING CODE 3510-DS-P